ENVIRONMENTAL PROTECTION AGENCY

[FRL-9658-4]

Notice of Proposed Administrative Cashout Agreement Pursuant to the Comprehensive Environmental Response, Compensation, and Liability Act; RE: Hassan Barrel Company

AGENCY: U.S. Environmental Protection Agency.

ACTION: Notice; request for public comment.

SUMMARY: Notice is hereby given of a proposed administrative settlement, subject to review and comment by the public pursuant to this Notice, under CERCLA concerning the Hassan Barrel Superfund Site (“Site”) in Fort Wayne, Allen County, Indiana. The settlement resolves a United States Environmental Protection Agency (EPA) claim under Sections 106, 107(a), and 122 of CERCLA, against two parties who have executed binding certifications of their consent to the settlement, as listed below in the Supplemental Information Section.

The settlement requires the settling party to pay a total of $25,000 to the EPA Hazardous Substances Superfund. The settlement includes a covenant not to sue the settling party pursuant to Section 107(a) of CERCLA, 42 U.S.C. 9607(a). For thirty (30) days following the date of publication of this notice, the Agency will receive written comments relating to the settlement. The Agency will consider all comments received and may modify or withdraw its consent to the settlement if comments received disclose facts or considerations which indicate that the settlement is inappropriate, improper, or inadequate. The Agency's response to any comments received will be available for public inspection at the EPA, Region 5, 7th Floor File Room, 77 West Jackson Boulevard Chicago, Illinois.

DATES: Comments must be submitted on or before May 11, 2012.

ADDRESSES: The proposed settlement is available for public inspection at the EPA, Region 5, 7th Floor File Room, 77 West Jackson Boulevard Chicago, Illinois. In addition, a copy of the proposed settlement also may be obtained from Nola M. Hicks, Associate Regional Counsel (C-14J), Region 5, 77 West Jackson Boulevard Chicago, Illinois 60604-3590, or by calling (312) 886-7949. Comments should reference the Hassan Barrel Site, Wayne County, Indiana and EPA Docket No. V=W=11-C-991 and should be addressed to Nola M. Hicks, Associate Regional Counsel (C-14J), Region 5, 77 West Jackson Boulevard Chicago, Illinois 60604.

SUPPLEMENTARY INFORMATION: The party listed below has executed a binding certification of his consent to participate in the settlement.

Alan D. Hersh

Hassan Barrel Company.

FOR FURTHER INFORMATION CONTACT: Nola M. Hicks, Associate Regional Counsel (C-14J), Region 5, 77 West Jackson Boulevard Chicago, Illinois, 60604, or call (312) 886-7949.

Authority: The Comprehensive Environmental Response, Compensation and Liability Act, of 1980, 42 U.S.C. §§ 9604, 9606(a), 9607, and 9622, as amended.

Dated: March 22, 2012.
Richard C. Karl,
Director, Superfund Division, Region 5.

[FR Doc. 2012-8728 Filed 4-10-12; 8:45 am]

BILLING CODE 6560-50-P